DEPARTMENT OF DEFENSE

Office of the Secretary

[Docket ID DOD-2019-OS-0019]

Privacy Act of 1974; System of Records

AGENCY: Office of the Secretary of Defense, DoD.

ACTION: Notice of a modified system of records.

SUMMARY: The Office of the Secretary of Defense (OSD) proposes to modify a system of records titled Joint Civilian Orientation Conference (JCOC) Files, DPA DCR.A 01. The JCOC Program Coordinator uses this system of records to initiate an annual call for nominations and an electronic nomination form to email all individuals authorized to nominate candidates for participation in JCOC. Authorized individuals that choose to nominate candidates for participation in JCOC complete the electronic nomination form and return it via email to the JCOC Program Coordinator. Subsequent to a selection panel process, the JCOC Program Coordinator distributes an electronic registration form and an electronic medical form via email to all candidates nominated for and selected to participate in JCOC. Candidates that accept the invitation to participate in JCOC complete the electronic registration form and their physician signs the electronic medical form. Upon completion, the candidate returns both the registration form and medical form to the JCOC Program Coordinator via email.

DATES: Comments will be accepted on or before April 8, 2019. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Chief Management Officer, Directorate of Oversight and Compliance, Regulatory and Advisory Committee Division, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Mrs. Luz D. Ortiz, Chief, Records, Privacy and Declassification Division (RPDD), 1155 Defense Pentagon, Washington, DC 20301-1155, or by phone at (571) 372-0478.

SUPPLEMENTARY INFORMATION: The JCOC is a weeklong engagement program providing business and community leaders the opportunity to gain firsthand knowledge and experience with the Department of Defense (DoD) and each of the military services. The JCOC Program mission is to increase public understanding of national defense by enabling American business and community leaders to directly observe and engage with the U.S. military in areas such as global security threats, budget implications, social issues facing troops, and the needs of transitioning Service members. The program's objective is to educate and inform private sector leaders and enhance their understanding of the military and its personnel. The JCOC also provides the American public opportunities to obtain a better understanding of national defense policies and programs.

The JCOC is the oldest and most prestigious public liaison program in the DoD and is the only outreach program sponsored by the Secretary of Defense. The authority vested in the Secretary of Defense per section 113 of 10 United States Code (U.S.C.) and DoD Directive 5122.5 establishes the position of Assistant Secretary of Defense for Public Affairs (ASD(PA)). The ASD(PA)'s responsibilities, functions, and authorities include the conduct of public affairs, community relations activities and programs as authorized by DoD Directive 5410.18, Public Affairs Community Relations Policy. This policy includes administration and execution of the JCOC Program.

This modification reflects changes to the system number, system location, system manager(s), authority, purpose, categories of individuals, categories of records, record source categories, routine uses, storage, retrieval, retention and disposal, safeguards, record access procedures, contesting records, and notification procedures and the addition of security classification and history sections.

The OSD notices for systems of records subject to the Privacy Act of 1974 (5 U.S.C. 552a), as amended, have been published in the Federal Register and are available from the address in FOR FURTHER INFORMATION CONTACT or from the Defense Privacy, Civil Liberties, and Transparency Division website at http://defense.gov/privacy.

The proposed systems reports, as required by 5 U.S.C. 552a(r) of the Privacy Act, as amended, were submitted on December 17, 2018, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: March 4, 2019.
Aaron T. Siegel,
Alternate OSD Federal Register Liaison Officer, Department of Defense.

SYSTEM NAME AND NUMBER:

Joint Civilian Orientation Conference (JCOC) Files, DPA 03.

SECURITY CLASSIFICATION:

Unclassified.

SYSTEM LOCATION:

Office of the Assistant to the Secretary of Defense (Public Affairs), Community and Public Outreach, Room 2D982, 1400 Defense Pentagon, Washington, DC 20301-1400.

SYSTEM MANAGER(S):

JCOC Program Manager, Office of the Assistant to the Secretary of Defense (Public Affairs), Community and Public Outreach, 1400 Defense Pentagon, Washington, DC 20301-1400. Email: osd.pentagon.pa.mbx.cpo-review@mail.mil; Phone: (703) 695-2036.

AUTHORITY FOR MAINTENANCE OF THE SYSTEM:

10 U.S.C. 113, Secretary of Defense; DoD Directive 5122.5, Assistant Secretary of Defense for Public Affairs (ASD(PA)); and DoD Directive 5410.18, Public Affairs Community Relations Policy.

PURPOSE OF THE SYSTEM:

To administer the JCOC Program, verify the eligibility of nominators and candidates, and to select those nominated individuals for participation in JCOC.

CATEGORIES OF INDIVIDUALS COVERED BY THE SYSTEM:

Military personnel, Coast Guard members, Department of Defense civilians, and JCOC alumni (hereafter JCOC Nominator) who nominate candidates for participation in JCOC; and civilians nominated for and selected to participate in JCOC.

CATEGORIES OF RECORDS IN THE SYSTEM:

JCOC Nominator (DoD/Coast Guard/JCOC alumni): full name, rank/grade, work or personal email address and telephone number, point of contact for questions/notifications, nominating authority, and JCOC class year.

JCOC Candidate: full name, title, organization name and address, work and personal email address, home address, home/cell phone number, biography, photograph, interviews, medical authorization form, and informed consent form.

Alternate point of contact for the JCOC Candidate: full name, address, email address, and phone number.

RECORD SOURCE CATEGORIES:

Nominators and candidates for the JCOC Program.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained therein may specifically be disclosed outside the DoD as a routine use pursuant to 5 U.S.C. 552a(b)(3):

a. To the appropriate Federal, State, local, territorial, tribal, foreign, or international law enforcement authority or other appropriate entity where a record, either alone or in conjunction with other information, indicates a violation or potential violation of law, whether criminal, civil, or regulatory in nature.

b. To any component of the Department of Justice for the purpose of representing the DoD, or its components, officers, employees, or members in pending or potential litigation to which the record is pertinent.

c. In an appropriate proceeding before a court, grand jury, or administrative or adjudicative body or official, when the DoD or other Agency representing the DoD determines the records are relevant and necessary to the proceeding; or in an appropriate proceeding before an administrative or adjudicative body when the adjudicator determines the records to be relevant to the proceeding.

d. To the National Archives and Records Administration for the purpose of records management inspections conducted under the authority of 44 U.S.C. 2904 and 2906.

e. To a Member of Congress or staff acting upon the Member's behalf when the Member or staff requests the information on behalf of, and at the request of, the individual who is the subject of the record.

f. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

g. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

These records are stored on paper and electronic storage media.

POLICIES AND PRACTICES FOR RETRIEVAL OF RECORDS:

Records are retrieved by full name.

POLICIES AND PRACTICES FOR RETENTION AND DISPOSAL OF RECORDS:

These records are retained and disposed of consistent with the National Archives and Records Administration approved records disposition schedules. Nomination and participation records are destroyed 10 years after conclusion of associated JCOC Program.

ADMINISTRATIVE, TECHNICAL, AND PHYSICAL SAFEGUARDS:

Paper records are maintained in a locked file cabinet in the JCOC Program office and are accessible only by authorized program personnel. Electronic records are stored in folders on a computer network storage system secured according to the Risk Management Framework requirements, with access restricted to authorized JCOC Program personnel and network maintenance personnel via Common Access Card authentication and system user credentials.

RECORD ACCESS PROCEDURES:

Individuals seeking access to information about themselves contained in this system should address inquiries to the Office of the Secretary of Defense/Joint Staff Freedom of Information Act Requester Service Center, 1155 Defense Pentagon, Washington, DC 20301-1155.

Signed, written requests for information must include full name, current address, year of participation, and the name and number of this system of records notice. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The Office of the Secretary of Defense (OSD) rules for accessing records, for contesting contents and appealing initial agency determinations are published in OSD Administrative Instruction 81; 32 CFR part 311; or may be obtained from the system manager.

NOTIFICATION PROCEDURES:

Individuals seeking to determine whether information about themselves is contained in this system should address inquiries to the Director, Joint Civilian Orientation Conference, Office of the Assistant to the Secretary of Defense (Public Affairs), Community and Public Outreach, 1400 Defense Pentagon, Washington, DC 20301-1400.

Signed, written requests for information must include the individual's full name, current address, and year of participation. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

February 22, 1993, 58 FR 10227.

[FR Doc. 2019-04191 Filed 3-7-19; 8:45 am]

BILLING CODE 5001-06-P